DEPARTMENT OF HEALTH AND HUMAN SERVICES

National Committee on Vital and Health Statistics

AGENCY: Centers for Disease Control and Prevention, Department of Health and Human Services.

ACTION: Notice of meeting.

SUMMARY: Pursuant to the Federal Advisory Committee Act, the Department of Health and Human Services (HHS) announces the following joint meeting of the Subcommittee on Privacy, Confidentiality, and Security and the Subcommittee on Standards, two subcommittees of the National Committee on Vital and Health Statistics. This meeting is open to the public.

DATES: Thursday, September 19, 2024: 11 a.m.-5 p.m. EDT and Friday, September 20, 2024: 10 a.m.-3 p.m. EDT.

ADDRESSES: Virtual open meeting. The public is welcome to obtain the link to attend this meeting by following the instructions posted on the Committee website: https://ncvhs.hhs.gov/meetings/full-committee-meeting-17/.

FOR FURTHER INFORMATION CONTACT: Substantive program information may be obtained from Naomi Michaelis, MPA, Executive Secretary, NCVHS, National Center for Health Statistics, Centers for Disease Control and Prevention, 3311 Toledo Road, Hyattsville, Maryland 20782, or via electronic mail to nmichaelis@cdc.gov; or by telephone (301) 458-4202. Summaries of meetings and a roster of Committee members are available on the NCVHS website https://ncvhs.hhs.gov/, where further information including an agenda and instructions to access the broadcast of the meeting will be posted.

Should you require reasonable accommodation, please telephone the CDC Office of Equal Employment Opportunity at (770) 488-3210 as soon as possible.

SUPPLEMENTARY INFORMATION: As outlined in its Charter, the National Committee on Vital and Health Statistics assists and advises the Secretary of HHS on health data, data standards, statistics, privacy, national health information policy, and the Department's strategy to best address those issues. The original authorities of NCVHS are described at 42 U.S. Code 242k. Additional authorities were added by the Health Insurance Portability and Accountability Act of 1996 (HIPAA, Pub. L. 104-191, 110 Stat. 1936, Aug. 21, 1996), under which NCVHS advises the Secretary on administrative simplification standards, including those for privacy, security, adoption and implementation of transaction standards, unique identifiers, code sets, and operating rules adopted under the Patient Protection and Affordable Care Act (ACA, Pub. L. 111-148, 124 Stat, 119, Mar. 23, 2010). Included in HIPAA is the statutory reporting requirement that the Committee submit to Congress and make public, a report regarding the implementation of part C of title XI of the Social Security Act.

Purpose: The purpose of the Joint Meeting of the Subcommittee on Privacy, Confidentiality and Security and the Subcommittee on Standards is to gather information and plan for upcoming projects. There will be a panel on privacy and security in health data access with invited experts. The agenda will also include updates from the Department, an update on the ongoing work of the ICD-11 Workgroup, and preparation for the upcoming work of the Subcommittee on Standards and a celebration of the 75th anniversary of the Committee.

The Committee will reserve time on the agenda for public comment. Meeting times and topics are subject to change. Please refer to the agenda posted on the NCVHS website for updates: https://ncvhs.hhs.gov/meetings/full-committee-meeting-17/.

Sarah Lessem,
Executive Director, NCVHS, Senior Data Policy Analyst, Office of Science and Data Policy, Office of the Assistant Secretary for Planning and Evaluation.

[FR Doc. 2024-20232 Filed 9-6-24; 8:45 am]

BILLING CODE 4150-05-P